DEPARTMENT OF COMMERCE

Census Bureau

Submission for OMB Review; Comment Request

DOC has submitted to the Office of Management and Budget (OMB) for clearance the following proposal for collection of information under the provisions of the Paperwork Reduction Act (44 U.S.C. chapter 35).

Agency: U.S. Census Bureau.

Title: Current Industrial Reports, Wave 1.

Form Number(s): MQ315B, MQ325B, MQ327D, MA311D, MA325F, MA327C, MA331B, MA332Q, MA333A, MA333M, MA333N, MA335F, and MA335K.

Agency Approval Number: 0607-0392.

Type of Request: Revision of a currently approved collection.

Burden: 6,276 hours.

Number of Respondents: 4,650.

Avg. Hours per Response: 1 hour and 21 minutes.

Needs and Uses: The U.S. Census Bureau is requesting a revision of the mandatory and voluntary surveys in Wave I of the Current Industrial Reports (CIR) program. The Census Bureau conducts a series of monthly, quarterly, and annual surveys as part of the CIR program. The CIR program focuses primarily on the quantity and value of shipments data of particular products and occasionally with data on production and inventories; unfilled orders, receipts, stocks, and consumption; and comparative data on domestic production, exports, and imports of the products they cover.

Due to the large number of surveys in the CIR program, for clearance purposes, the CIR surveys are divided into “waves.” One wave is resubmitted for clearance each year. This year the Census Bureau is submitting the mandatory and voluntary surveys of Wave I for clearance.

A new survey, MQ315B, “Socks Production” will be added in this wave. This new survey was requested by the American Manufacturing Trade Action Coalition (AMTAC) and other trade associations such as the Domestic Manufacturers Committee and also by the domestic manufacturers. In 2004 and 2005 we collected data on socks as part of the counterpart for the MQ315A, “Apparel” survey.

For copies of the latest instruction manuals and report forms in this wave go to this Web address: http://www.census.gov/mcd/clearance.

Primary users of these data are government and regulatory agencies, business firms, trade associations, and private research and consulting organizations. The FRB uses CIR data in its monthly index of industrial production as well as its annual revision to the index. The Bureau of Economic Analysis (BEA) and the Bureau of Labor Statistics (BLS) use the CIR data in the estimate of components of gross domestic product (GDP) and the estimate of output for productivity analysis, respectively. Many government agencies, such as the International Trade Commission, Department of Agriculture, Food and Drug Administration, Department of Energy, Federal Aviation Administration, BEA, and International Trade Administration use the data for industrial analysis, projections, and monitoring import penetration. Private business firms and organizations use the data for trend projections, market analysis, product planning, and other economic and business-oriented analysis. Since the CIR program is the sole, consistent source of information regarding specific manufactured products in the intercensal years, the absence thereof would severely hinder the Federal Government's ability to measure and monitor important segments of the domestic economy, as well as the effect of import penetration.

Affected Public: Businesses or other for profit.

Frequency: Quarterly and Annually.

Respondent's Obligation: Mandatory and Voluntary.

Legal Authority: Title 13, United States Code (U.S.C.), sections 61, 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: June 12, 2006.
Madeleine Clayton,
Management Analyst,Office of the Chief Information Officer.

[FR Doc. E6-9421 Filed 6-15-06; 8:45 am]

BILLING CODE 3510-07-P